DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 9, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on May 3, 2021.
Donald P. Burger,
Chief, General Approvals and Permits Branch.

Special Permits Data
Application No. | Applicant | Regulation(s) affected | Nature of the special permits thereof
21210-N | Aero Micronesia Inc | 172.101(j), 173.27(b)(2), 173.27(b)(3), 175.30 | To authorize the transportation in commerce of Class 1 materials that are forbidden aboard cargo-only aircraft by cargo-only aircraft. (mode 4)
21212-N | The Boeing Company | 178.955 | To authorize the transportation in commerce of environmentally hazardous substances contained in non-DOT specification bulk packagings by motor vehicle. (mode 1)
21213-N | Space Exploration Technologies Corp | 172.400, 172.500, 173.302(a) | To authorize the transportation in commerce of spacecraft containing krypton, compressed in non-DOT specification cylinders. (mode 1)
21215-N | Lord Corporation | 172.203(a), 173.58(a) | To authorize the transportation in commerce of a certain explosive (quinone dioxime) as a flammable solid. (modes 1, 2, 3, 4, 5)
21216-N | Bren-tronics, Inc | 172.101(j), 173.185(b)(1) | To authorize transportation in commerce of lithium ion batteries that exceed 35 kg in non-DOT specification packaging aboard cargo-only aircraft. (mode 4)
21217-N | Transport Logistics International, Inc | 173.420(a)(2), 173.420(a)(3)(i) | To authorize the transportation in commerce of UF6 in repaired cylinders that no longer meet the specification required by the Hazardous Materials Regulations. (mode 1)
21219-N | FIBA Technologies, Inc | 180.212(a) | To authorize the transportation in commerce of certain specification DOT 3A, DOT 3AA, DOT 3AX, DOT 3AAX, and DOT 3T cylinders and UN ISO 11120 tubes that have been repaired. (modes 1, 2, 3, 4, 5)
21222-N | Bren-Tronics, Inc | 172.101(j), 173.185(b)(1) | To authorize the transportation in commerce of lithium ion batteries exceeding 35 kg in non-DOT specification packaging by cargo-only aircraft. (mode 4)
21229-N | Mercedes-Benz U.S. International, Inc | 172.101(j), 173.185(b)(1) | To authorize the transportation in commerce of lithium ion batteries exceeding 35 kg net weight in non-DOT specification packaging by cargo-only aircraft. (mode 4)

[FR Doc. 2021-09824 Filed 5-7-21; 8:45 am]

BILLING CODE 4910-60-P